DEPARTMENT OF HOMELAND SECURITY

Federal Emergency Management Agency

44 CFR Part 67

[Docket ID FEMA-2008-0020; Internal Agency Docket No. FEMA-B-1069]

Proposed Flood Elevation Determinations

AGENCY: Federal Emergency Management Agency, DHS.

ACTION: Proposed rule; correction.

SUMMARY: On September 15, 2009, FEMA published in the Federal Register a proposed rule that contained an erroneous table. This notice provides corrections to that table, to be used in lieu of the information published at 74 FR 47169. The table provided here represents the flooding sources, location of referenced elevations, effective and modified elevations, and communities affected for Lawrence County, South Dakota, and Incorporated Areas. Specifically, it addresses the following flooding sources: Hungry Hollow Gulch, Ice House Creek, Ice House Creek Tributary A, Riggs Gulch, Spearfish Creek, and Unnamed Tributary to Higgins Gulch.

DATES: Comments are to be submitted on or before June 6, 2011.

ADDRESSES: You may submit comments, identified by Docket No. FEMA-B-1069, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064 or (e-mail) rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 47169, in the September 15, 2009, issue of the Federal Register, FEMA published a table under the authority of 44 CFR 67.4. The table, entitled “Lawrence County, South Dakota, and Incorporated Areas” addressed the following flooding sources: Hungry Hollow Gulch, Ice House Creek, Ice House Creek Tributary A, Riggs Gulch, Spearfish Creek, and Unnamed Tributary to Higgins Gulch. That table contained inaccurate information as to the location of referenced elevation, effective and modified elevation in feet, or communities affected for these flooding sources. It also incorrectly listed the City of Deadwood as an affected community for Ice House Creek Tributary A; the affected community should have been listed as the City of Spearfish. In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lawrence County, South Dakota, and Incorporated Areas
Hungry Hollow Gulch | Approximately 350 feet downstream of Ames Avenue | +3,634 | +3,632 | City of Spearfish.
| Approximately 645 feet upstream of St. Joe Street | +3,697 | +3,699
Ice House Creek | Approximately 25 feet upstream of Grant Street | None | +3,658 | City of Spearfish.
| Approximately 50 feet upstream of State Street | None | +3,686
Ice House Creek Tributary A | Approximately 73 feet downstream of 8th Street | None | +3,663 | City of Spearfish.
| Approximately 150 feet downstream of State Street | None | +3,671
Riggs Gulch | Approximately 200 feet downstream of U.S. Route 14A | None | +3,764 | City of Spearfish.
| Approximately 920 feet upstream of Colorado Boulevard | None | +3,843
Spearfish Creek | Just downstream of Utah Boulevard | +3,569 | +3,570 | City of Spearfish, Unincorporated Areas of Lawrence County.
| Approximately 1,300 feet upstream of Winterville Drive | +3,725 | +3,726
Unnamed Tributary to Higgins Gulch | Approximately 4,430 feet downstream of the I-90 West ramp | None | +3,440 | City of Spearfish.
| Approximately 1,500 feet downstream of the I-90 West ramp | None | +3,491
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Spearfish
Maps are available for inspection at the 625 5th Street, Spearfish, SD 57783.
Unincorporated Areas of Lawrence County
Maps are available for inspection at 90 Sherman Street, Deadwood, SD 57732.

(Catalog of Federal Domestic Assistance No. 97.022, “Flood Insurance.”)

Dated: February 7, 2011.
Sandra K. Knight,
Deputy Federal Insurance and Mitigation Administrator, Mitigation, Department of Homeland Security, Federal Emergency Management Agency.

[FR Doc. 2011-5223 Filed 3-7-11; 8:45 am]

BILLING CODE 9110-12-P